DEPARTMENT OF COMMERCE

Foreign-Trade Zones Board

[S-83-2017]

Foreign-Trade Zone 143—Sacramento, California Application for Subzone Expansion; Mitsubishi Chemical Carbon Fiber and Composites, Inc. Sacramento, California

An application has been submitted to the Foreign-Trade Zones (FTZ) Board by the Sacramento-Yolo Port District, grantee of FTZ 143, requesting expanded subzone status for the facilities of Mitsubishi Chemical Carbon Fiber and Composites, Inc., located in Sacramento, California. The application was submitted pursuant to the provisions of the Foreign-Trade Zones Act, as amended (19 U.S.C. 81a-81u), and the regulations of the FTZ Board (15 CFR part 400). It was formally docketed on June 1, 2017.

Subzone 143D consists of the following sites in Sacramento: Site 1 (10 acres) 5900 88th Street; and, Site 2 (1.05 acres) 6003 88th Street. The applicant is now requesting authority to expand the subzone to include proposed Site 3: 8670 Fruitridge Road, Suite 100, Sacramento. The expanded subzone would be subject to the existing activation limit of FTZ 143.

In accordance with the FTZ Board's regulations, Christopher Kemp of the FTZ Staff is designated examiner to review the application and make recommendations to the Executive Secretary.

Public comment is invited from interested parties. Submissions shall be addressed to the FTZ Board's Executive Secretary at the address below. The closing period for their receipt is August 2, 2017. Rebuttal comments in response to material submitted during the foregoing period may be submitted during the subsequent 15-day period to August 17, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Christopher Kemp at Christopher.Kemp@trade.gov or (202) 482-0862.

Dated: June 16, 2017.
Andrew McGilvray,
Executive Secretary.

[FR Doc. 2017-13120 Filed 6-22-17; 8:45 am]

BILLING CODE 3510-DS-P